DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Seattle Federal Fisheries Permits.

OMB Control Number: 0648-0203.

Form Number(s): None.

Type of Request: Regular submission (extension of a currently approved collection).

Number of Respondents: 552.

Average Hours per Response: Permit renewals: 20 minutes; Permit transfers: 30 minutes; Sablefish Ownership Interest form: 5 minutes; EFP Applications: 32 hours; EFP Trip Notifications: 2 minutes; EFP Harvest Plans: 16 hours; EFP Data Reports: 2 hours; EFP Summary Reports: (interim report) 4 hours; (final report) 20 hours; Letters of Acknowledgement: 6 hours; Exempted Educational Activity Authorization, 6 hours.

Burden Hours: 2,024 hours.

Needs and Uses: This request is for a revision and extension of a currently approved information collection.

The Magnuson-Stevens Act (16 U.S.C. 1801) provides that the Secretary of Commerce is responsible for the conservation and management of marine fisheries resources in Exclusive Economic Zone (3-200 miles) of the United States (U.S.). NOAA Fisheries, Northwest Region manages the Pacific Coast Groundfish Fishery in the Exclusive Economic Zone (EEZ) off Washington, Oregon, and California under the Pacific Coast Groundfish Fishery Management Plan. The regulations implementing the Pacific Groundfish Fishery require that those vessels participating in the limited entry fishery to be registered to a valid limited entry permit. Participation in the fishery and access to a limited entry permit has been restricted to control the overall harvest capacity.

NOAA Fisheries seeks comment on the extension of permit information collections required for: (1) Renewal and transfer of Pacific Coast Groundfish limited entry permits; (2) implementation of certain provisions of the sablefish permit stacking program as provided for at 50 CFR 660.231 and 660.25; and (3) issuing and fulfilling the terms and conditions of certain exempted fishing permits (EFPs). The regulations implementing the limited entry program are found at 50 CFR part 660, subpart G.

Also, NOAA Fisheries requires an information collection to implement certain aspects of the sablefish permit stacking program which prevents excessive fleet consolidation. As part of the annual renewal process, NOAA Fisheries requires a corporation or partnership that owns or holds (as vessel owner) a sablefish endorsed permit to provide a complete ownership interest form listing all individuals with ownership interest in the entity. Similarly, any sablefish endorsed permit transfer involving registration of a business entity requires an ownership interest form if either the permit owner or vessel owner is a corporation or partnership. This information is used to determine if individuals own or hold sablefish permits in excess of the limit of three permits. Also, for transfer requests made during the sablefish primary season (April 1st through October 31st), the permit owner is required to report the remaining tier pounds not yet harvested on the sablefish endorsed permit at the time of transfer.

Applicants for an exempted fishing permit (EFP) must submit written information that allows NOAA Fisheries and the Pacific Fishery Management Council to evaluate the proposed exempted fishing project activities and weigh the benefits and costs of the proposed activities. The Council makes a recommendation on each EFP application and for successful applicants, NOAA Fisheries issues the EFPs which contains terms and conditions for the project including various reporting requirements. The information included in an application is specified at 50 CFR 600.745(b)(2) and the Council Operating Procedure #19. Permit holders are required to file preseason harvest plans, interim and/or final summary reports on the results of the project, and in some cases individual vessels and other permit holders are required to provide data reports (i.e., logbooks and/or catch reports). The results of EFPs are commonly used to explore ways to reduce effort on depressed stocks, encourage innovation and efficiency in the fishery, provide access to constrained stocks by directly measuring the bycatch associated with such strategies, and evaluate/revise current and proposed management measures.

Letters of Acknowledgement (LOAs) and Exempted Educational Activity Authorizations (EEAAs) were historically collected under OMB control number 0648-0309. To reduce burden estimates, National Marine Fisheries Service (NMFS) Headquarters proposed to move LOAs and EEAAs to their respective region's permit family-of-forms collections. OMB control number 0648-0309 will need to remain in place until all of the regions have moved the necessary elements into the respective regional PRA collections.

NMFS may grant exemptions from fishery regulations for educational or other activities (e.g., using non-regulation gear). A NMFS Regional Administrator or Director may authorize, for limited testing, public display, data collection, exploratory fishing, compensation fishing, conservation engineering, health and safety surveys, environmental cleanup, and/or hazard removal purposes, the target or incidental harvest of species managed under an FMP or fishery regulations that would otherwise be prohibited. An EEAA is a permit issued by the Regional Office to accredited educational institutions that authorize, for educational purposes, the target or incidental harvest of species managed under a fisheries management plan or fishery regulations that would otherwise be prohibited. EEAAs are generally of limited scope and duration and authorize the take of the amount of fish necessary to demonstrate the lesson. Regulations at 50 CFR 600.745(b) supplement existing information collections required by the various fishery management plans establishing minimum standards for these activities. Researchers are requested to submit reports of their scientific research activity after its completion.

An EEAA is a permit issued by the Regional Office to accredited educational institutions that authorize, for educational purposes, the target or incidental harvest of species managed under an FMP or fishery regulations that would otherwise be prohibited. EEAAs are generally of limited scope and duration, and authorize the take of the amount of fish necessary to demonstrate the lesson. Researchers are requested to submit reports of their scientific research activity after its completion.

LOAs are required under Section 101(a)(5)(A) of the Marine Mammal Protection Act (MMPA) of 1972 for the incidental take of marine mammals during fisheries surveys and related research activities conducted by the Northwest Fisheries Science Center (NWFSC), NMFS. Management of certain marine mammals falls under the jurisdiction of the NMFS under the MMPA and Endangered Species Act (ESA) and mechanisms exist under both the ESA and MMPA to assess the effect of incidental takings and to authorize appropriate levels of take.

Affected Public: Primary respondents are businesses or other for-profit organizations (e.g., groundfish fishermen, fishing companies, and partnerships), state fisheries agencies, non-profit institutions, or fishing associations who sponsor research carried out under exempted fishing permits.

Frequency: Reporting would generally occur annually, but could occur monthly or semi-annually depending on the information requested.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-17725 Filed 8-16-19; 8:45 am]

BILLING CODE 3510-22-P